NATIONAL SCIENCE FOUNDATION

Sunshine Act Meetings

The National Science Board's (NSB) Committee on Oversight hereby gives notice of the scheduling of a videoconference meeting for the transaction of National Science Board business pursuant to the National Science Foundation Act and the Government in the Sunshine Act.

TIME AND DATE: Wednesday, July 19, 2023, from 10:30-11:30 a.m. EDT.

PLACE: This meeting will be held by videoconference through the National Science Foundation. Members of the public can observe this meeting through a YouTube livestream. The YouTube link is: https://www.youtube.com/watch?v=uF2jekmarNU.

STATUS: Open.

MATTERS TO BE CONSIDERED: The agenda of the meeting is: Committee Chair's opening remarks; Presentation/discussion of NSF Enterprise Risk Management system; Discussion of Commission agenda planning; and Committee Chair's closing remarks.

CONTACT PERSON FOR MORE INFORMATION: Point of contact for this meeting is: (Chris Blair, cblair@nsf.gov), 703/292-7000.

Christopher Blair,
Executive Assistant to the National Science Board Office.

[FR Doc. 2023-15151 Filed 7-13-23; 11:15 am]

BILLING CODE 7555-01-P